DEPARTMENT OF AGRICULTURE

Forest Service

Fremont and Winema Resource Advisory Committee

AGENCY: Forest Service, USDA.

ACTION: Notice of meeting.

SUMMARY: The Fremont and Winema Resource Advisory Committee will meet in Lakeview Oregon, for the purpose of evaluating and recommending resource management projects for funding in 2008, under the provisions of Title II of the Secure Rural Schools and Community Self-Determination Act of 2000 (as extended for 2008).

DATES: The meeting will be held on August 20 and 21, 2007.

ADDRESSES: The meeting will take place at the Lakeview Interagency Office, 1301 South G Street, Lakeview, OR 97630.

Send written comments to Fremont and Winema Resource Advisory Committee, c/o USDA Forest Service, P.O. Box 67, Paisley OR 97636, or electronically to agowan@fs.fed.us.

FOR FURTHER INFORMATION CONTACT: Amy Gowan, Designated Federal Official, c/o Klamath National Forest, 1312 Fairlane Road, Yreka CA 96097, telephone (530) 841-4421.

SUPPLEMENTARY INFORMATION: The agenda will include a review of the status of a selection of the 2002-2007 projects recommended by the RAC, consideration of Title II project proposals for 2008 submitted by the Forest Service, the public, and other agencies, presentations by project proponents, and final recommendations for funding of fiscal year 2008 projects.

All Fremont and Winema Resource Advisory Committee Meetings are open to the public. There will be a time for public input and comment. Interested citizens are encouraged to attend.

Dated: July 17, 2007.
Amy Gowan,
Designated Federal Official, Fremont-Winema Resource Advisory Committee.

[FR Doc. 07-3611 Filed 7-23-07; 8:45 am]

BILLING CODE 3410-11-M